COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and/or service(s) to the Procurement List that will be furnished by nonprofit agencies employing persons who are blind or have other severe disabilities, and deletes product(s) and/or service(s) from the Procurement List previously furnished by such agencies.

DATES: Date added to and deleted from the Procurement List: October 8, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 7/28/2017 (82 FR 35187-35188) and 8/7/2017 (82 FR 36753-36754), the Committee for Purchase From People Who Are Blind or Severely Disabled published notices of proposed additions to the Procurement List.

After consideration of the material presented to it concerning capability of qualified nonprofit agencies to provide the products and a service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

7125-00-NIB-0006—Cabinet, Storage, Blow-Molded, 46″, Black

7125-00-NIB-0007—Cabinet, Storage, Blow-Molded, 46″, Platinum

7125-00-NIB-0008—Cabinet, Storage, Blow-Molded, 66″, Black

7125-00-NIB-0009—Cabinet, Storage, Blow-Molded, 66″, Platinum

7125-00-NIB-0010—Cabinet, Storage, Blow-Molded, 72″, Black

7125-00-NIB-0011—Cabinet, Storage, Blow-Molded, 72″, Platinum

7125-00-NIB-0012—Shelf, Open Storage, 4 Shelves, 54″, Platinum

7125-00-NIB-0013—Shelf, Open Storage, 4 Shelves, 54″, Charcoal

7125-00-NIB-0014—Shelf, Open Storage, 4 Shelves, 54″, Black

7125-00-NIB-0015—Shelf, Open Storage, 5 Shelves, 74″, Platinum

7125-00-NIB-0016—Shelf, Open Storage, 5 Shelves, 74″, Charcoal

7125-00-NIB-0017—Shelf, Open Storage, 5 Shelves, 74″, Black

Mandatory for: Broad Government Requirement

Mandatory Source(s) of Supply: MidWest Enterprises for the Blind, Inc., Kalamazoo, MI

Contracting Activity: General Services Administration, Philadelphia, PA

Distribution: B-List

Service

Service Type: Base Supply Center

Mandatory for: U.S. Army Corps of Engineers, Engineer Research & Development Center, 3909 Halls Ferry Road, Vicksburg, MS

Mandatory Source(s) of Supply: LC Industries, Inc., Durham, NC

Contracting Activity: Dept of the Army, W2R2 USA ENGR R AND D CTR

Deletions

On 7/21/2017 (82 FR 33872-33873), 7/28/2017 (82 FR 35187-35188), and 8/7/2017 (82 FR 36753-36754), the Committee for Purchase From People Who Are Blind or Severely Disabled published notices of proposed deletions from the Procurement List.

After consideration of the relevant matter presented, the Committee has determined that the product(s) and/or service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and/or service(s) to the Government.

3. There are no known regulatory alternatives which would accomplish the objectives of the Javits-Wagner-O'Day Act (41 U.S.C. 8501-8506) in connection with the product(s) and/or service(s) deleted from the Procurement List.

End of Certification

Accordingly, the following products and services are deleted from the Procurement List:

Products

NSN(s)—Product Name(s):

4610-00-268-9890—Bag, Drinking Water Storage

Mandatory Source(s) of Supply: Huntsville Rehabilitation Foundation, Huntsville, AL

Contracting Activity: Defense Logistics Agency Troop Support

NSN(s)—Product Name(s):

6920-01-NSH-9023—Target

6920-01-NSH-9025—Target

6920-01-NSH-9026—Target

6920-01-NSH-9027—Target

6920-01-NSH-9028—Target

6920-01-NSH-9029—Target

6920-01-NSH-9031—Target

6920-01-NSH-9035—Target

6920-01-NSH-9036—Target

6920-01-NSH-9030—Target

Mandatory Source(s) of Supply: Walterboro Vocational Rehabilitation Center, Walterboro, SC

Contracting Activity: W6QM MICC-FT STEWART, Fort Stewart, GA

NSN(s)—Product Name(s):

8410-01-474-6871—Slacks, Dress, Belted, Navy, Women's, White, 20WR

8410-01-474-6872—Slacks, Dress, Belted, Navy, Women's, White, 20WR

Mandatory Source(s) of Supply: Goodwill Industries of South Florida, Inc., Miami, FL

Contracting Activity: Defense Logistics Agency Troop Support

NSN(s)—Product Name(s):

8405-00-NSH-1415—XXX Large Tall

8405-00-NSH-1407—Medium Tall

8405-00-NSH-1409—Large Tall

8405-00-NSH-1411—X Large Tall

8405-00-NSH-1413—XX Large Tall

Mandatory Source(s) of Supply: Human Technologies Corporation, Utica, NY

Contracting Activity: USDA APHIS MRPBS, Minneapolis, MN

NSN(s)—Product Name(s):

8410-00-NSH-6328—size 2

8410-00-NSH-6357—XXXX Large

8410-00-NSH-6383—XXXX Large Tall

8410-00-NSH-6364—XXXX Large

8410-00-NSH-6390—XXXX Large Tall

8410-00-NSH-6403—XXXX Large

8410-00-NSH-6404—XXXX Large Tall

8405-00-NSH-1332—Medium Tall

8405-00-NSH-1333—Large Tall

8405-00-NSH-1334—X Large Tall

8405-00-NSH-1335—XX Large Tall

8405-00-NSH-1336—XXX Large Tall

8405-00-NSH-1337—Medium Tall

8405-00-NSH-1338—Large Tall

8405-00-NSH-1339—X Large Tall

8405-00-NSH-1340—XX Large Tall

8405-00-NSH-1341—XXX Large Tall

8405-00-NSH-1342—Medium Tall

8405-00-NSH-1387—Medium Tall

8405-00-NSH-1389—Large Tall

8405-00-NSH-1391—X Large Tall

8405-00-NSH-1393—XX Large Tall

8405-00-NSH-1395—XXX Large Tall

8405-00-NSH-1397—Medium Tall

8405-00-NSH-1399—Large Tall

8405-00-NSH-1401—X Large Tall

8405-00-NSH-1403—XX Large Tall

8405-00-NSH-1405—XXX Large Tall

8405-00-NSH-1417—Medium Tall

8405-00-NSH-1419—Large Tall

8405-00-NSH-1421—X Large Tall

8405-00-NSH-1423—XX Large Tall

8405-00-NSH-1425—XXX Large Tall

Mandatory Source(s) of Supply: Human Technologies Corporation, Utica, NY

Contracting Activity: AMS 31C3, WASHINGTON, DC

Services

Service Type: Assembly of Backpack Pump Outfit Service

Mandatory for: GSA, Southwest Supply Center: 819 Taylor Street, Fort Worth, TX

Mandatory Source(s) of Supply: Expanco, Inc., Fort Worth, TX

Contracting Activity: General Services Administration, Fort Worth, TX

Service Types: Kitting Service (Assembly); Belt Weather Kit: (6660-01-024-2638); Canteen, Water Disposable: (8465-01-062-5854); Dinnerware Kit: (7360-00-139-0480); Mop-up Kit, Lateral Line: (4210-01-321-4206)

Mandatory Source(s) of Supply: Expanco, Inc., Fort Worth, TX

Contracting Activity: General Services Administration, Fort Worth, TX

Service Type: Janitorial/Custodial Service

Mandatory for: NAVFAC Southwest, Marine Corps Reserve Center, Bakersfield, CA

Mandatory Source(s) of Supply: Bakersfield Arc, Inc., Bakersfield, CA

Contracting Activity: DEPT OF THE NAVY, NAVFAC SOUTHWEST

Service Type: Janitorial/Custodial Service

Mandatory for: Naval & Marine Corps Reserve Center, Mobile, AL

Mandatory Source(s) of Supply: GWI Services, Inc., Mobile, AL

Contracting Activity: Dept Of The Navy, Navy Facilities Engineering Command

Service Type: Grounds Maintenance Service

Mandatory for: Naval Air Station, Joint Reserve Base, Fort Worth, TX

Mandatory Source(s) of Supply: Trace, Inc., Boise, ID

Contracting Activity: Dept of The Navy, U.S. Fleet Forces Command

Service Type: Facilities Maintenance Service

Mandatory for: Greater Louisville Technology Park: Port Hueneme Detachment & Navy Caretaker Site Off, Louisville, KY

Mandatory Source(s) of Supply: Employment Source, Inc., Fayetteville, NC

Contracting Activity: DEPT OF THE NAVY, NAVAL FAC ENGINEEERING CMD MIDWEST

Amy B. Jensen,
Director, Business Operations.

[FR Doc. 2017-19083 Filed 9-7-17; 8:45 am]

BILLING CODE 6353-01-P